DEPARTMENT OF HOMELAND SECURITY

Transportation Security Administration

New Agency Information Collection Activity Under OMB Review: Critical Facility Information of the Top 100 Most Critical Pipelines

AGENCY: Transportation Security Administration, DHS.

ACTION: 30-day Notice.

SUMMARY: This notice announces that the Transportation Security Administration (TSA) has forwarded the new Information Collection Request (ICR) abstracted below to the Office of Management and Budget (OMB) for review and approval under the Paperwork Reduction Act. The ICR describes the nature of the information collection and its expected burden. TSA published a Federal Register notice, with a 60-day comment period soliciting comments, of the following collection of information on April 16, 2008, 73 FR 20700. This collection provides TSA critical facility and annual product through-put information from owners/operators of the nation's largest pipelines, and is necessitated by the requirements set forth in the Implementing the Recommendations of the 9/11 Commission Act of 2007.

DATES: Send your comments by September 3, 2008. A comment to OMB is most effective if OMB receives it within 30 days of publication.

ADDRESSES: Interested persons are invited to submit written comments on the proposed information collection to the Office of Information and Regulatory Affairs, Office of Management and Budget. Comments should be addressed to Desk Officer, Department of Homeland Security/TSA, and sent via electronic mail to oira_submission@omb.eop.gov or faxed to (202) 395-6974.

FOR FURTHER INFORMATION CONTACT: Joanna Johnson, Communications Branch, Business Management Office, Operational Process and Technology, TSA-32, Transportation Security Administration, 601 South 12th Street, Arlington, VA 22202-4220; telephone (571) 227-3651; facsimile (703) 603-0822.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Critical Facility Information of the Top 100 Most Critical Pipelines.

Type of Request: New collection.

OMB Control Number: Not yet assigned.

Form(s): NA.

Affected Public: Pipeline Companies.

Abstract: Sec. 1557(b) of the Implementing Recommendations of the 9/11 Commission Act of 2007 (Pub. L. 110-53, 121 Stat. 266, 475, 08/03/2007) (9/11 Act), specifically tasks TSA to develop and implement a plan for inspecting critical facilities at the 100 most critical pipeline systems. To meet the 9/11 Act's requirement, TSA will request a report of annual product through-put and a listing of critical facilities from the top 125 pipeline systems in terms of annual through-put, as reported in pipeline trade journals and other sources.

TSA uses system annual through-put as a primary factor in determining pipeline system criticality. This figure is based on the amount of hazardous liquid or natural gas product transported through a pipeline in one year (i.e., annual through-put). TSA will request the information from the top 125 pipeline systems in terms of annual through-put, and out of these, TSA will make a determination of the top 100 most critical pipeline systems. The request for information will be transmitted by TSA via e-mail to the 125 respondents. TSA will ask the respondents to provide the information to TSA via e-mail. To the extent the information transmitted is Sensitive Security Information; TSA will safeguard the information in accordance with 49 CFR parts 15 and 1520. TSA will use the information to develop and implement a plan for inspecting critical facilities at the 100 most critical pipeline systems.

Number of Respondents: 125.

Estimated Annual Burden Hours: An estimated 500 hours annually.

Issued in Arlington, Virginia, on July 29, 2008.
Kriste Jordan,
Program Manager, Business Improvements and Communications, Office of Information Technology.

[FR Doc. E8-17720 Filed 8-1-08; 8:45 am]

BILLING CODE 9110-05-P